DEPARTMENT OF ENERGY

Federal Energy Regulatory Commission

[Project No.: P-12751-000]

AquaEnergy Group, Ltd.; Notice of Application and Applicant-Prepared EA Accepted for Filing, Soliciting Motions To Intervene and Protests, Ready for Environmental Analysis, and Soliciting Comments, and Terms and Conditions, Recommendations, and Prescriptions

December 18, 2006.

Take notice that the following hydroelectric application and applicant-prepared environmental assessment has been filed with the Commission and is available for public inspection.

a. Type of Application: Minor License.

b. Project No.: P-12751-000.

c. Date Filed: November 8, 2006.

d. Applicant: AquaEnergy Group, Ltd.

e. Name of Project: Makah Bay Offshore Wave Energy Pilot Project.

f. Location: Pacific Ocean in Makah Bay, Clallam County, Washington near the city of Neah Bay, Washington. The project would occupy about one acre of land on the Makah Indian Reservation and about seven acres of the Olympic Coast National Marine Sanctuary administered by the U.S. Department of Commerce, National Oceanic and Atmospheric Administration and Flattery Rocks National Wildlife Refuge administered by the U.S. Department of the Interior, U.S. Fish and Wildlife Service.

g. Filed Pursuant to: Federal Power Act 16 U.S.C. 791 (a)-825(r).

h. Applicant Contact: Mary Jane Parks, P.O. Box 1276, Mercer Island, WA 98059, (626) 568-0798.

i. FERC Contact: Nick Jayjack, (202) 502-6073, Nicholas.Jayjack@ferc.gov.

j. Deadline for filing motions to intervene and protests, comments, terms and conditions, recommendations, and prescriptions: 60 days from the issuance of this notice. All reply comments must be filed with the Commission within 105 days from the date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, terms and conditions, recommendations, and prescriptions may be filed electronically via the Internet in lieu of paper. The Commission strongly encourages electronic filings. See 18 CFR 385.2001(a)(1)(iii) and the instructions on the Commission's Web site (http://www.ferc.gov) under the “e-Filing” link.

k. This application has been accepted for filing and is now ready for environmental analysis.

l. The project would consist of: (1) Four, 250-kilowatt wave energy conversion buoys (“AquaBuOYs”) and an associated mooring/anchoring and electrical connection system placed 3.7 miles offshore in water depths of about 150 feet over a rectangular area about 625 feet by 450 feet of ocean floor; (2) a metal shore station that would be about 15 feet long by 15 feet wide by 10 feet high and located just inland of Hobuck Beach (on the Makah Indian Reservation near Neah Bay, Washington) adjacent to an existing power line for interconnection—the shore station would contain equipment necessary to connect to the electrical grid; (3) a driveway and parking area at the metal shore station; and (4) a 3.7-mile long submarine cable anchored to the ocean floor and connecting from one of the buoy's (“collector buoy”) power cable to the metal shore station. The total installed capacity of the project would be 1 megawatt, and the project would generate about 1,500,000 kilowatt-hours annually. AquaEnergy proposes to provide the power generated by the project to the Clallam County PUD for use in its service area.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/docs-filing/esubscription.asp to be notified via e-mail of new filings and issuances related to this or other pending projects. For assistance, contact FERC Online Support.

n. Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

A notice of intent must specify the exact name, business address, and telephone number of the prospective applicant, and must include an unequivocal statement of intent to submit, if such an application may be filed, either a preliminary permit application or a development application (specify which type of application). A notice of intent must be served on the applicant(s) named in this public notice.

Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. A license applicant must file no later than 60 days following the date of issuance of this notice: (1) A copy of the water quality certification; (2) a copy of the request for certification, including proof of the date on which the certifying agency received the request; or (3) evidence of waiver of water quality certification.

p. Procedural schedule: The application will be processed according to the following Hydro Licensing Schedule. Revisions to the schedule will be made as appropriate.

Notice of the availability of the EA (single EA): May 2007.

Magalie R. Salas,
Secretary.

[FR Doc. E6-22204 Filed 12-27-06; 8:45 am]

BILLING CODE 6717-01-P